ENVIRONMENTAL PROTECTION AGENCY

40 CFR Part 81

[CA083-CORR; FRL-7376-2]

Clean Air Act Redesignation and Reclassification, Searles Valley Nonattainment Area; Correction

AGENCY: Environmental Protection Agency (EPA).

ACTION: Final rule; correction.

SUMMARY: This action corrects language that appeared in a final rule published in the Federal Register on August 6, 2002. The final rule changed the boundaries of the Searles Valley, California moderate PM-10 nonattainment area.

EFFECTIVE DATE: This action is effective on September 19, 2002.

FOR FURTHER INFORMATION CONTACT: Karen Irwin, EPA Region IX, (415) 947-4116.

SUPPLEMENTARY INFORMATION: On August 6, 2002 (67 FR 50805), EPA published a final rulemaking action changing the boundaries of the Searles Valley, California moderate PM-10 nonattainment area (NA) by dividing that area into three new, separate moderate NAs: Coso Junction, Indian Wells Valley, and Trona. EPA also made a finding that the Trona NA has attained the 24-hour and annual PM-10 national ambient air quality standards by the Clean Air Act mandated attainment date for moderate nonattainment areas.

The title of the aforementioned action contains an error and is being corrected in this action. The error is a reference to determination of attainment of the PM-10 standards for the Coso Junction Area, rather than the Trona Area.

In rule FR Doc. 02-19798 published on August 6, 2002, make the following correction. On page 50805, in the first column, the title is being corrected to now state: “Clean Air Act Redesignation and Reclassification, Searles Valley Nonattainment Area; Designation of Coso Junction, Indian Wells Valley, and Trona Nonattainment Areas; California; Determination of Attainment of the PM-10 Standards for the Trona Area; Particulate Matter of 10 microns or less (PM-10).”

Under Executive Order 12866 (58 FR 51735, October 4, 1993), this action is not a “significant regulatory action” and is therefore not subject to review by the Office of Management and Budget. In addition, this action does not impose any enforceable duty or contain any unfunded mandate as described in the Unfunded Mandates Reform Act of 1995 (Public Law 104-4), or require prior consultation with State officials as specified by Executive Order 12875 (58 FR 58093, October 28, 1993), or involve special consideration of environmental justice related issues as required by Executive Order 12898 (59 FR 7629, February 16, 1994).

Because this action is not subject to notice-and-comment requirements under the Administrative Procedure Act or any other statute, it is not subject to the provisions of the Regulatory Flexibility Act (5 U.S.C. 601 et seq.).

Under 5 U.S.C. 801(a)(1)(A) as added by the Small Business Regulatory Enforcement Fairness Act of 1996, EPA submitted a report containing this rule and other required information to the U.S. Senate, the U.S. House of Representatives and the Comptroller General of the General Accounting Office prior to publication of this rule in today's Federal Register. This rule is not a “major rule” as defined by 5 U.S.C. 804(2).

List of Subjects in 40 CFR Part 81

Environmental protection, Air pollution control, National parks, Wilderness areas.

Dated: September 9, 2002.
Wayne Nastri,
Regional Administrator, Region IX.

[FR Doc. 02-23730 Filed 9-18-02; 8:45 am]

BILLING CODE 6560-50-P